DEPARTMENT OF JUSTICE

[OMB Number 1117-0007]

Agency Information Collection Activities; Proposed eCollection eComments Requested; Information Collection Under Review Registrants Inventory of Drugs Surrendered

AGENCY: Drug Enforcement Administration, Department of Justice.

ACTION: 30-Day notice.

SUMMARY: The Department of Justice (DOJ), Drug Enforcement Administration (DEA), will be submitting the following information collection request to the Office of Management and Budget (OMB) for review and approval in accordance with the Paperwork Reduction Act of 1995. This proposed information collection was previously published in the Federal Register at 79 FR 29802, May 23, 2014, allowing for a 60 day comment period.

DATES: Comments are encouraged and will be accepted for 30 days until September 4, 2014.

FOR FURTHER INFORMATION CONTACT: If you have additional comments especially on the estimated public burden or associated response time, suggestions, or need a copy of the proposed information collection instrument with instructions or additional information, please contact Imelda Paredes, Office of Diversion Control, Drug Enforcement Administration, 8701 Morrissette Drive, Springfield, Virginia 22152.

Written comments and/or suggestions can also be directed to the Office of Management and Budget, Officer of Information and Regulatory Affairs, Attention Department of Justice Desk Officer, Washington DC 20503 or sent to OIRA_submission@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of this information collection:

(1) Type of Information Collection: Extension of a currently approved collection.

(2) The Title of the Form/Collection: Registrants Inventory of Drugs Surrendered—DEA Form 41.

(3) The agency form number: 1117-0007.

(4) Affected public who will be asked or required to respond, as well as a brief abstract:

Primary: Business or other for-profit.

Other: Not-for-profit institutions, Federal, State, local or tribal government.

Abstract: Title 21 CFR 1307.21 states that any registrant desiring to dispose of any controlled substance may request assistance from the DEA by listing the controlled substance on DEA Form 41 and submitting the form to DEA. DEA Form 41 is used to account for destroyed controlled substances, and its use is mandatory.

(5) An estimate of the total number of respondents and the amount of time estimated for an average respondent to respond: It is estimated that 87,736 respondents will respond annually to this collection. The DEA estimates that it takes 30 minutes to complete each form.

(6) An estimate of the total public burden (in hours) associated with the collection: 43,868 annual burden hours.

If additional information is required contact: Jerri Murray, Department Clearance Officer, United States Department of Justice, Justice Management Division, Policy and Planning Staff, Two Constitution Square, 145 N Street NE., 3E.405B, Washington, DC 20530.

Dated: July 30, 2014.
Jerri Murray,
Department Clearance Officer for PRA, U.S. Department of Justice.

[FR Doc. 2014-18407 Filed 8-4-14; 8:45 am]

BILLING CODE 4410-09-P